DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 80 FR 14117-1419, dated January 9, 2015) is amended to establish the Western States Division and Spokane Mining Research Division, National Institute for Occupational Safety and Health, Centers for Disease Control and Prevention.

Section C-B, Organization and Functions, is hereby amended as follows:

After the title and functional statement for the World Trade Center Health Program (CCP), National Institute for Occupational Safety and Health (CC), insert the following:

Western States Division (CCQ). The Western States Division (WSD) conducts research and provides technical assistance for the prevention of work-related illness, injury, and death; these activities are predominately focused on, but not limited to, occupational safety and health (OS&H) problems in the Western U.S., including Alaska and Hawaii. WSD conducts specific activities that provide actionable evidence to reduce OS&H hazards. To accomplish its mission, WSD: (1) Conducts prevention research for at risk populations; (2) facilitates the development of OS&H programs in states and regions that have minimal or limited OS&H public health program capacity and state-supporting infrastructure; (3) serves as a multi-regional resource to provide outreach, expert advice, and technical assistance on OS&H priority issues, including the development, dissemination, and diffusion of NIOSH research products; (4) enhances and facilitates NIOSH initiatives and programs; and (5) responds to requests for technical assistance and conducts site evaluations to support Division programs and priorities and other NIOSH initiatives and programs, including evaluating exposures to hazardous chemical, biological, physical, and radioactive agents and recommending appropriate controls. Research includes the development of viable strategies to evaluate and prioritize hazards, communicate risk, provide evidence for prevention recommendations, and building state OS&H (capacity or activities) through surveillance data and stakeholder input. At risk populations include, but are not limited to, (a) high-risk industries such as oil and gas extraction, fishing, and aviation; (b) underserved groups such as American Indian/Alaska Native and immigrant and contingent workers; and (c) workers engaged in particularly hazardous activities such as hydraulic fracturing, wind and other renewable energy development, wild land firefighting; and water and air transportation.

After the title and functional statement for the Office of Mine Safety and Health Research (CCM), National Institute for Occupational Safety and Health (CC), insert the following:

Spokane Mining Research Division (CCMG). (1) Provides leadership for prevention of work-related illness, injury, and death in the extractive industries with an emphasis on the special needs of these industries in western United States; (2) develops numerical models and conducts laboratory and field investigations to better understand the causes of catastrophic failures in underground metal/nonmetal mines that may lead to multiple injuries and fatalities; (3) develops new design practices and tools, control technologies, and work practices to reduce the risk of these global and local ground failures in underground metal/nonmetal mines; (4) conducts numerical studies and field investigations to understand the problems of ventilating deep and multilevel underground mines, and develops improved design approaches and engineering controls to reduce the concentration of toxic substances in the mine air; (5) conducts laboratory and field studies to help leverage and support the Institute's mining research program; (6) develops and recommends appropriate criteria for new standards, NIOSH policy, documents, or testimony related to health and safety in the extractive industries.

James Seligman,
Acting Chief Operating Officer, Centers for Disease Control and Prevention.

[FR Doc. 2015-05552 Filed 3-10-15; 8:45 am]

BILLING CODE P